DEPARTMENT OF HEALTH AND HUMAN SERVICES

National Institutes of Health

National Institute of Mental Health; Amended Notice of Meeting

Notice is hereby given of a change in the meeting of the National Institute of Mental Health Special Emphasis Panel, January 25, 2005, 9 a.m. to January 25, 2005, 5 p.m., Bethesda North Marriott Hotel & Conference Center, Montgomery County Conference Center Facility, 5701 Marinelli Road, North Bethesda, MD 20852 which was published in the Federal Register on January 3, 2005, FR 70 98.

The meeting will be held on the same date from 1 p.m. to 4 p.m. as a telephone conference call at the Neuroscience Center, 6001 Executive Blvd., Rockville, MD. The meeting is closed to the public.

Dated: January 5, 2005.
Anna P. Snouffer,
Acting Director, Office of Federal Advisory Committee Policy.

[FR Doc. 05-585 Filed 1-11-05; 8:45 am]

BILLING CODE 4140-01-M